DEPARTMENT OF AGRICULTURE

Forest Service

Tongass National Forest; Alaska; Shoreline II Outfitter/Guide Environmental Impact Statement

AGENCY: Forest Service, USDA.

ACTION: Notice of intent to prepare an environmental impact statement.

SUMMARY: The Department of Agriculture, Forest Service, will prepare an Environmental Impact Statement (EIS) to allocate a portion of the overall visitor capacity to outfitter and guide (O/G) use within four ranger districts of the Tongass National Forest. The project will consider marine shoreline-based commercial non-motorized recreation use on Admiralty Island National Monument and Juneau, Hoonah and Sitka Ranger Districts. The Shoreline II project area includes all areas used by non-motorized outfitter and guide activities that originate from the marine shoreline areas. The project area generally extends ½ mile inland. The project area extends further inland where specific outfitter and guide activities and locations are accessed from the shoreline (i.e., goat/deer hunting, canoe route/portage, freshwater fishing on anadromous and other fish-bearing streams and lakes). The Record of Decision will disclose how the Forest Service decides to allocate (or distribute) shoreline-based recreation capacity for O/G uses. This decision will replace the 2004 Shoreline Outfitter/Guide Record of Decision.

DATES: Comments concerning the project must be received by July 31, 2014. The Draft Environmental Impact Statement is expected to be released in spring 2015 and the Final Environmental Impact Statement is expected to be released in winter 2016.

ADDRESSES: Comments can be submitted via the project Web site at http://go.usa.gov/Pzi. Click on the link “Comment on Project” to submit comments and attach documents. Comments may also be sent via email to comments-alaska-tongass-sitka@fs.fed.us or sent via fax to 907-747-4253. Send written comments to Jay Kinsman, Shoreline II Team Leader, Sitka Ranger District, 204 Siginaka Way, Sitka, AK 99835.

FOR FURTHER INFORMATION CONTACT: Jay Kinsman, Shoreline II Team Leader by phone: 907-747-4228 or email: jkinsman@fs.fed.us. Additional information about the project and project area is available on the Internet at http://go.usa.gov/Pzi. Individuals who use telecommunication devices for the deaf (TDD) may call the Federal Information Relay Service (FIRS) at 1-800-877-8339 between 8 a.m. and 8 p.m. Eastern Time, Monday through Friday.

SUPPLEMENTARY INFORMATION:

Purpose and Need for Action

The purpose of this action is to manage outfitters and guides on the Tongass National Forest marine shoreline zone consistent with the 2008 Tongass Land and Resource Management Plan (Forest Plan). A decision is needed to determine new outfitter and guide use allocations for the project area. This is necessary to balance commercial and non-commercial recreational opportunities and to provide and maintain high quality recreation experiences without degrading forest resources.

This action is needed to meet Forest Plan goals and objectives for recreation, tourism, and to support local and regional economies. In addition, the 2004 Shoreline ROD required a review after 5 years to determine whether to continue implementing the decision, or to supplement it. A 5-year review was never conducted; this environmental analysis is intended to fulfill the role of that review. This environmental analysis will replace the Shoreline ROD with a new Environmental Impact Statement and Record of Decision.

Since the Shoreline ROD was completed in 2004, demand for non-motorized recreation commercial services that originate in the marine shoreline zone has increased. The need for recreation commercial services has expanded both in terms of number of visitors, and the types of services being offered. There has been an increase in the fleet of small to mid-size cruise ships desiring to guide on the Tongass, and the demand for guided big game hunting continues to grow. Also, the traditionally low-use seasons (April-May; September-October) are seeing increased use, with additional interest for commercial use in the winter use season (January-March). Fourteen of the use areas defined in the 2004 Shoreline decision are at 80 percent or more of their allocation during one or more seasons, and operators are dispersing to areas traditionally less used. At some locations, outfitters and guides have requested to operate beyond the ½-mile zone. There is a need to revisit the decision to better align with current market demand for non-motorized commercial recreation services.

Also, in 2008, the Forest Service updated the national directives for outfitting and guiding. These updates simplified procedures and clarified policies for priority use permits governing performance, inspections, and allocation of use. Additionally, data gathered recently through monitoring and reported use by guides shows that some information used in the 2001 Visitor Capacity Analysis required updating based on information gathered through Forest Service monitoring and reported use by guides.

Proposed Action

The Forest Service is proposing to allocate a portion of the overall visitor capacity to outfitter and guide use. The 2014 Shoreline II Project Visitor Capacity Analysis (located at http://go.usa.gov/Pzi) establishes the total visitor capacity for the project area. Visitor capacity and the proposed allocations are described in terms of service days. A service day is defined as a day, or any part of a day, for which an outfitter or guide provides service to a client on National Forest System (NFS) lands. Service days were calculated and allocated to 48 geographic units defined as Use Areas.

The Forest Service proposes to allocate up to 79,901 service days of the total visitor capacity of 636,448 service days within the project area to outfitter and guide use. These allocations are proposed by season and Use Area. The Forest Service proposes to allocate guided brown bear hunts in the Alaska Department of Fish and Game (ADF&G) Unit 4 Game Management Unit based on the recommended number of hunts in the Alaska Board of Game Brown Bear Management Strategy (BBMS, 2000). The number of hunts will be allocated by ADF&G Guide Use Area to the spring and fall seasons proportionally based on the 5-year average from actual use reports (2008-2012). For example, the BBMS recommends ten hunts in the 04-01 ADF&G Guide Use Area (which contains 04-01A, B, and C Shoreline II Use Areas). Based on the 5-year average, 66 percent of the hunts have occurred in the spring season and 34 percent have occurred in the fall season. We propose to allocate seven of the ten hunts (66 percent) to the spring season and three hunts (34 percent) to the fall season. Since Shoreline II Use Areas are smaller subunits of the ADF&G Guide Use Areas, the location of the hunts could occur across multiple Shoreline II Use Areas. The service days used for each hunt would be part of the total outfitter/guide allocation proposed for the Use Area and season.

We propose that no more than 50 percent of the total outfitter/guide allocation for a Use Area, by season, would be allowed at a large group area (LGA), with exceptions in Use Areas with hardened LGA sites. At hardened LGA sites the authorized officer would have the ability to authorize more than 50 percent of that season's Use Area allocation (not to exceed the total commercial allocation for the season). For example, George Island LGA in Use Area 04-16E is a hardened site that can accommodate more than the 2,356 service days available (50 percent of the proposed summer allocation) for LGA use in the summer. The authorized officer could raise the allowed use at this LGA above 2,356 service days.

The project area overlaps with six congressionally designated wilderness areas. The Wilderness Act of 1964 prohibits commercial services, except for those that may be necessary to meet the recreational or other purposes of the area. The need for commercial services in wilderness has been documented in Wilderness Commercial Needs Assessments, which are available at http://go.usa.gov/Pzi. Twenty Use Areas are within designated wilderness. In addition to the proposed outfitter and guide use allocations, the Forest Service will seek to expand voluntary wilderness best management practices agreements with recreation service providers where appropriate.

The Proposed Action would allocate a total of 79,901 service days across the four districts for use by outfitters and guides. The use will be authorized by special use permits to outfitters and guides, and may be temporary in nature (less than 1 year) or for multiple years. For outfitters and guides who have demonstrated satisfactory performance, the authorized officer may issue priority use permits, for up to 10 years, in accordance with Forest Service Handbook 2709.14. The Proposed Action does not limit non-commercial use by the public.

Possible Alternatives

A no-action alternative will be considered. This alternative will be a continuation of outfitting and guiding resembling the current management and reflect the decision in the 2004 Shoreline Outfitter/Guide Record of Decision. At this time, no other alternatives are being considered because no preliminary issues have been identified that would require developing another alternative.

Responsible Official

The forest supervisor of the Tongass National Forest is the responsible official for this decision.

Nature of Decision To Be Made

The decision based on this EIS will allocate a portion of the total visitor capacity to outfitter and guide use in the marine shoreline zone. The decision, which will be documented in a Record of Decision, will:

1. Specify the amount of the carrying capacity in service days that are allocated to commercial recreation use for each Use Area in each season,

2. specify the types of commercial recreation activities permitted,

3. determine what, if any, management strategies to implement for brown bear, wilderness, and large group use areas and other issues identified through the analysis,

4. specify any mitigation measures for commercial recreation activities to reduce user conflicts and resource impacts, and establish monitoring requirements.

Permits or Licenses Required

Some outfitter and guide activities authorized by this decision may require outfitters and guides to obtain permits from other Federal and State agencies.

Scoping Process

This notice of intent initiates the scoping process, which guides the development of the Environmental Impact Statement. Since February 2012, the four districts have been gathering information and comments on recreation use and outfitter and guide use of the Shoreline II area. Newsletters about the project were mailed to interested individuals, and a Web site, http://go.usa.gov/Pzi, was established to provide information. Input to help develop the Proposed Action was sought through public meetings and a hard copy and online comment form.

In June 2014, the four ranger districts plan to send out a scoping letter seeking information and comments from Federal, State, and local agencies, tribal organizations, individuals, businesses, and organizations that may be interested in, or affected by, the Proposed Action. Comments received as a result of this scoping will be included in the analysis and will be analyzed to identify issues to be considered in the Draft EIS. Public information meetings will be held this summer at the following locations: July 8 from 5-8 p.m. at Harrigan Centennial Hall in the Exhibits Room in Sitka, Alaska; and June 24 from 5-7 p.m. at the Admiralty National Monument and Juneau Ranger District office located at 8510 Mendenhall Loop Road, Juneau, Alaska. Dates for the meeting at the Hoonah Ranger District office at 430 Airport Way, Hoonah, Alaska will be announced in a public service announcement. If you are unable to attend one of the above public meetings, webinars will also be held this summer. You can contact us via email for directions and links.

The Web site will provide electronic methods for providing comments through direct online entry. The Web site is the preferred method for receiving comments. It is important that reviewers provide their comments at such times and in such manner that they are useful to the agency's preparation of the Environmental Impact Statement. Therefore, comments should be provided prior to the close of the comment period and should clearly articulate the reviewer's concerns and contentions. Comments received in response to this solicitation, including names and addresses of those who comment, will be part of the public record for this Proposed Action. Comments submitted anonymously will be accepted and considered.

Dated: June 6, 2014.
Forrest Cole,
Forest Supervisor.

[FR Doc. 2014-13991 Filed 6-13-14; 8:45 am]

BILLING CODE 3410-11-P